DEPARTMENT OF DEFENSE

Defense Logistics Agency

[DOD-2006-OS-0127]

Privacy Act of 1974; Systems of Records

AGENCY: Defense Logistics Agency.

ACTION: Notice to amend a system of records.

SUMMARY: The Defense Logistics Agency is amending a system of records notice to its existing inventory of record systems subject to the Privacy Act of 1974 (5 U.S.C. 552a), as amended.

DATES: This action will be effective without further notice on July 5, 2006 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: May 26, 2006.
C.R. Choate,
Alternate OSD Federal Register Liaison Officer, Department of Defense.

S322.35 DMDC

System name:

Survey and Census Data Base (August 27, 1999, 64 FR 46889).

Changes:

* * * * *

System location:

Delete second paragraph.

* * * * *

Authority for maintenance of the system:

Add to entry “5 U.S.C. 7101 Note, Employee Surveys (Pub. L. 108-136, Sec. 1128) and 10 U.S.C. 481, Racial and Ethnic Issues; Gender Issues: Surveys.”

* * * * *

Retention and disposal:

Delete entry and replace with: “Master file, system documentation, codebooks, record layouts, and other system documentation are permanent. Survey questionnaires and census forms (inputs/source records) are destroyed after computer records have been created and validated. Summary reports (electronic or paper) are deleted and/or destroyed when no longer needed for operational purposes.”

* * * * *

Notification procedure:

Delete entry and replace with: “Individuals seeking to determine whether information about themselves is contained in this system should address written inquiries to the Privacy Act Officer, Headquarters, Defense Logistics Agency, ATTN: DP, 8725 John J. Kingman Road, Stop 2533, Fort Belvoir, VA 22060-6221.

Written requests should contain the full name, Social Security Number, and current address and telephone numbers of the individual. In addition, the approximate date and location where the survey was completed should be provided.”

Record access procedures:

Delete entry and replace with: “Individuals seeking access to information about themselves contained in this system should address written inquiries to the Privacy Act Officer, Headquarters, Defense Logistics Agency, ATTN: DP, 8725 John J. Kingman Road, Stop 2533, Fort Belvoir, VA 22060-6221.

Written requests should contain the full name, Social Security Number, and current address and telephone numbers of the individual. In addition, the approximate date and location where the survey was completed should be provided.”

Contesting record procedures:

Delete entry and replace with: “The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.”

* * * * *

S322.35 DMDC

System name:

Survey and Census Data Base.

System location:

Naval Postgraduate School Computer Center, Naval Postgraduate School, Monterey, CA 93943-5000.

Categories of individuals covered by the system:

Individuals who completed census or survey forms, including military members, civilians, persons eligible for DoD benefits, men and women of military age, and applicants to the military services.

Categories of records in the system:

Survey responses and census information.

Authority for maintenance of the system:

5 U.S.C. 7101 Note, Employee Surveys (Pub. L. 108-136, Sec. 1128); 10 U.S.C. 136, Under Secretary of Defense for Personnel and Readiness; 10 U.S.C. 481, Racial and Ethnic Issues; Gender Issues: Surveys; 10 U.S.C. 1782, Surveys of Military Families; 10 U.S.C. 2358, Research and Development Projects; DoD Directive 5124.2, Under Secretary of Defense for Personnel and Readiness (USD(P&R)); and E.O. 9397 (SSN).

Purpose(s):

The purposes of the system are to count DoD personnel and beneficiaries for evacuation planning, apportionment when directed by oversight authority and for other policy planning purposes, and to obtain characteristic information on DoD personnel and households to support manpower and benefits research; to sample attitudes and/or discern perceptions of social problems observed by DoD personnel and to support other manpower research activities; to sample attitudes toward enlistment in and determine reasons for enlistment decisions. This information is used to support manpower research sponsored by the Department of Defense and the military services.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The information may be used to support manpower research sponsored by other Federal agencies.

The DoD “Blanket Routine Uses” set forth at the beginning of DLA's compilation of systems of records notices apply to this system.

Policies and practices for storing, retrieving, accessing, retaining, and disposing of records in the system:

Storage:

Magnetic computer tape.

Retrievability:

Records can be retrieved by Social Security Number; by institutional affiliation such as service membership; and by individual characteristics such as educational level.

Safeguards:

Access to data at all locations is restricted to those who require the records in the performance of their official duties. Access is further restricted by the use of passwords which are changed periodically. Physical entry is restricted by the use of locks, guards, and administrative procedures.

Retention and disposal:

Master file, system documentation, codebooks, record layouts, and other system documentation are permanent. Survey questionnaires and census forms (inputs/source records) are destroyed after computer records have been created and validated. Summary reports (electronic or paper) are deleted and/or destroyed when no longer needed for operational purposes.

System manager(s) and address:

Director, Defense Manpower Data Center, 1600 Wilson Boulevard, Suite 400, Arlington, VA 22209-2593.

Notification procedure:

Individuals seeking to determine whether information about themselves is contained in this system should address written inquiries to the Privacy Act Officer, Headquarters, Defense Logistics Agency, ATTN: DP, 8725 John J. Kingman Road, Stop 2533, Fort Belvoir, VA 22060-6221.

Written requests should contain the full name, Social Security Number, and current address and telephone number of the individual. In addition, the approximate date and location where the survey was completed should be provided.

Record access procedures:

Individuals seeking access to information about themselves contained in this system should address written inquiries to the Privacy Act Officer, Headquarters, Defense Logistics Agency, ATTN: DP, 8725 John J. Kingman Road, Stop 2533, Fort Belvoir, VA 22060-6221.

Written requests should contain the full name, Social Security Number, and current address and telephone numbers of the individual. In addition, the approximate date and location where the survey was completed should be provided.

Contesting record procedures:

The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.

Record source categories:

The survey and census information is provided by the individual; additional data obtained from Federal records are linked to individual cases in some data sets.

Exemptions claimed for the system:

None.

[FR Doc. 06-5102 Filed 6-2-06; 8:45 am]

BILLING CODE 5001-06-M